DEPARTMENT OF VETERANS AFFAIRS

[OMB Control No. 2900-0706]

Agency Information Collection (Application for Reimbursement of National Test Fee) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before January 16, 2014.

ADDRESSES: Submit written comments on the collection of information through www.Regulations.gov or to VA's OMB Desk Officer, OMB Human Resources and Housing Branch, New Executive Office Building, Room 10235, Washington, DC 20503 (202) 395-7316. Please refer to “OMB Control No. 2900-0706” in any correspondence

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0706.”

SUPPLEMENTARY INFORMATION:

Title: Application for Reimbursement of National Test Fee, VA Form 22-0810.

OMB Control Number: 2900-0706.

Type of Review: Revision of a currently approved collection.

Abstract: Servicemembers, veterans, and eligible dependents complete VA Form 22-0810 to request reimbursement of national test fees. VA will use the data collected to determine the claimant's eligibility for reimbursement.

An agency may not conduct or sponsor, and a person is not required to respond to a collection of information unless it displays a currently valid OMB control number. The Federal Register Notice with a 60-day comment period soliciting comments on this collection of information was published on July 31, 2013, at page 46423.

Affected Public: Individuals or households.

Estimated Annual Burden: 90 hours.

Estimated Average Burden per Respondent: 15 minutes.

Frequency of Response: On occasion.

Estimated Number of Respondents: 360.

Dated: December 11, 2013.
By direction of the Secretary.
Crystal Rennie,
VA Clearance, Department of Veterans Affairs.

[FR Doc. 2013-29843 Filed 12-16-13; 8:45 am]

BILLING CODE 8320-01-P